DEPARTMENT OF TRANSPORTATION

Federal Highway Administration

Notice of Final Federal Agency Action on a Proposed Highway Project in Wisconsin

AGENCY: Federal Highway Administration (FHWA), Department of Transportation (DOT).

ACTION: Notice of limitation on claims for judicial review of actions by FHWA.

SUMMARY: The FHWA is issuing this notice to announce actions taken that are final Federal agency actions. The final agency actions relate to a proposed highway project, along Interstate 41 (I-41) in Outagamie and Brown counties, Wisconsin between State Highway (WIS) 96 (Wisconsin Avenue) in the City of Appleton and County F (Scheuring Road) in the City of De Pere. Those actions grant approvals for the project.

DATES: By this notice, the FHWA is advising the public of final agency actions subject to 23 U.S.C. 139(l)(1). A claim seeking judicial review of the Federal agency actions on the highway project will be barred unless the claim is filed on or before May 9, 2022. If the Federal law that authorizes judicial review of a claim provides a time period of less than 150 days for filing such a claim, then that shorter time period still applies.

FOR FURTHER INFORMATION CONTACT: For FHWA, Bethaney Bacher-Gresock, Environmental Program and Project Specialist, FHWA Wisconsin Division Office, City Center West, 525 Junction Road, Suite 8000, Madison, WI 53717; email bethaney.bacher-gresock@dot.gov; telephone: (608) 662-2119. For Wisconsin Department of Transportation (WisDOT), Scott Ebel, WisDOT Project Manager, WisDOT NE-Region, Green Bay Office, 944 Van Der Perren Way, Green Bay, WI 54304; email scott.ebel@dot.wi.gov; telephone: (920) 360-2225.

SUPPLEMENTARY INFORMATION: Notice is hereby given that FHWA has taken final agency actions subject to 23 U.S.C. 139(l)(1) by issuing approvals for the following highway project: The I-41 Project in Outagamie and Brown counties, Wisconsin. The FHWA, in cooperation with WisDOT, proposes reconstruction and widening of I-41 between WIS 96 in Appleton and County F in De Pere.

The proposed improvement would:

1. Add an additional travel lane in each direction (total of 3-through-lanes in each direction).

2. Reconstruct the existing service and system interchanges.

3. Add a new service interchange at County EB/GV (South Bridge Connector).

4. Replace six of the eight local and County road overpasses over I-41.

5. Reconstruct and upgrade I-41 to current WisDOT and American Association of State Highway and Transportation Officials (AASHTO) design standards where practicable.

6. Provide a new Wrightstown Safety and Weight Enforcement Facility (SWEF) and 2-story building for the State Patrol's Northeast District Headquarters at the existing SWEF location.

The actions by the Federal agencies, and the laws under which such actions were taken, are described in the Environmental Assessment (EA)/Finding of No Significant Impact (FONSI) for the project, approved on November 18, 2021, and in other documents in the FHWA project records. The EA, FONSI and other project records are available by contacting WisDOT or FHWA at the addresses provided in the FOR FURTHER INFORMATION CONTACT section of this notice. The EA/FONSI may be viewed and downloaded from the project website at: https://wisconsindot.gov/Pages/projects/by-region/ne/i41/default.aspx.

This notice applies to all Federal agency decisions as of the issuance date of this notice and all laws under which such actions were taken, including but not limited to:

1. National Environmental Policy Act (NEPA) [42 U.S.C. 4321-4351]; Federal-Aid Highway Act [23 U.S.C. 109 and 23 U.S.C. 128].

2. Section 7 of the Endangered Species Act of 1973 (ESA) [16 U.S.C. 1531-1544 and Section 1536].

3. National Historic Preservation Act of 1966, as amended [16 U.S.C. 470(f) et seq.].

4. Clean Air Act [42 U.S.C. 7401-7671 (q)].

5. Clean Water Act [Section 404, Section 401, Section 319].

6. Section 4(f) of the Department of Transportation Act of 1966 [49 U.S.C. 303].

7. Uniform Relocation Assistance and Real Property Acquisition Act of 1970, as amended [42 U.S.C. 4601 et seq.].

8. Migratory Bird Treaty Act (MBTA) of 1918, as amended [16 U.S.C. 703 et seq.]

(Catalog of Federal Domestic Assistance Program Number 20.205, Highway Planning and Construction. The regulations implementing Executive Order 12372 regarding intergovernmental consultation on Federal programs and activities apply to this program.)

(Authority: 23 U.S.C. 139(l)(1))

Issued on: December 2, 2021.
Glenn Fulkerson,
Division Administrator, Federal Highway Administration, Madison, Wisconsin.

[FR Doc. 2021-26540 Filed 12-9-21; 8:45 am]

BILLING CODE 4910-RY-P